NUCLEAR REGULATORY COMMISSION

[Docket Nos 50-259, 50-260, and 50-296]

Tennessee Valley Authority (TVA) Browns Ferry Nuclear Plant, Units 1, 2, and 3; Notice of Availability of the Final Supplement 21 to the Generic Environmental Impact Statement for the License Renewal of Browns Ferry Nuclear Plants, Units 1, 2, and 3

Notice is hereby given that the U.S. Nuclear Regulatory Commission (Commission) has published a final plant-specific supplement to the “Generic Environmental Impact Statement for License Renewal of Nuclear Plants” (GEIS), NUREG-1437, regarding the renewal of operating licenses DPR-33, DPR-52, and DPR-68 for an additional 20 years of operation at Browns Ferry Nuclear Plant, Unit 1, 2 and 3 (BFN). BFN is located in Limestone County, Alabama, 16 km (10 mi) southwest of Athens, Alabama. Possible alternatives to the proposed action (license renewal) include no action and reasonable alternative energy sources. As discussed in Section 9.3 of the final Supplement 21, based on (1) The analysis and findings in the GEIS; (2) the TVA Environmental Report; (3) consultation with Federal, State, and local agencies; (4) the staff's own independent review; and (5) the staff's consideration of public comments; the recommendation of the staff is that the Commission determine that the adverse environmental impacts of license renewal for Units 1, 2, and 3 at BFN are not so great that preserving the option of license renewal for energy-planning decision makers would be unreasonable.

The final Supplement 21 to the GEIS is available for public inspection at the NRC Public Document Room (PDR), located at One White Flint North, 11555 Rockville Pike (first floor), Rockville, Maryland 20852, or from the Publicly Available Records component of NRC's Agencywide Documents Access and Management System (ADAMS). ADAMS is accessible at http://www.nrc.gov/reading-rm/adams.html. The accession number for the final Supplement 21 to the GEIS is ML051730443. Persons who do not have access to ADAMS, or who encounter problems in accessing the documents located in ADAMS should contact the NRC's PDR Reference staff by telephone at 1-800-397-4209, or 301-415-4737, or by e-mail at pdr@nrc.gov. In addition, the Athens-Limestone Public Library, 405 East South Street, Athens, Alabama, has agreed to make the final plant-specific supplement to the GEIS available for public inspection.

FOR FURTHER INFORMATION CONTACT: Dr. Michael Masnik, License Renewal and Environmental Impacts Program, Division of Regulatory Improvement Programs, U.S. Nuclear Regulatory Commission, Washington, DC, 20555-0001. Dr. Masnik may be contacted at 1-800-368-5642, extension 1191 or via e-mail at MTM2@nrc.gov.

Dated at Rockville, Maryland, this 23rd day of June, 2005.
For the Nuclear Regulatory Commission.
Pao-Tsin Kuo,
Program Director, License Renewal and Environmental Impacts Program Division of Regulatory Improvement Programs, Office of Nuclear Reactor Regulation.

[FR Doc. E5-3434 Filed 6-29-05; 8:45 am]

BILLING CODE 7590-01-P